DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons and vessel that have been placed on OFAC's List of Specially Designated Nationals and Blocked Persons (SDN List) based on OFAC's determination that one or more applicable legal criteria were satisfied. All property and interests in property subject to U.S. jurisdiction of these persons are blocked, and U.S. persons are generally prohibited from engaging in transactions with them. The vessel placed on the SDN List has been identified as property in which a blocked person has an interest.

DATES: See SUPPLEMENTARY INFORMATION section for applicable date(s).

FOR FURTHER INFORMATION CONTACT: OFAC: Andrea M. Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On August 13, 2021, OFAC determined that the property and interests in property subject to U.S. jurisdiction of the following persons and property are blocked under the relevant sanctions authorities listed below.

Individual

1. AL HABSI, Mahmood Rashid Amur (a.k.a. AL HABSI, Mahmood Rashid Amer; a.k.a. AL-HABSI, Mahmood; a.k.a. AL-HABSI, Mahmud bin Rashid), Muscat, Oman; DOB 15 Jul 1984; POB Muscat, Oman; nationality Oman; Additional Sanctions Information—Subject to Secondary Sanctions; Gender Male; Passport 03785555 (Oman); National ID No. 7668871 (Oman) (individual) [SDGT] [IFSR] (Linked To: ISLAMIC REVOLUTIONARY GUARD CORPS (IRGC)-QODS FORCE).

Designated pursuant to section 1(a)(iii)(C) of Executive Order 13224 of September 23, 2001, “Blocking Property and Prohibiting Transactions With Persons Who Commit, Threaten to Commit, or Support Terrorism” (E.O. 13224), 44 FR 49079, as amended by Executive Order 13886 of September 9, 2019, “Modernizing Sanctions To Combat Terrorism,” 84 FR 48041 (E.O. 13224, as amended) for having materially assisted, sponsored, or provided financial, material, or technological support for, or goods or services to or in support of, the ISLAMIC REVOLUTIONARY GUARD CORPS (IRGC)-QODS FORCE.

Entities

1. NIMR INTERNATIONAL L.L.C. (a.k.a. “NIMR IRAQ BRANCH”), Office No. 1, 5th Floor, Al Nadha Towers 2, Ghala Industrial Area, Muscat, Oman; 501 Al Nadha Towers 2, Building 220 Way No 5007, Muscat, Oman; PO Box 254, Muscat, Oman; Hayy al Fayha' -al Amin al Dakhili Dur al Dubat. Building number 44/234, Locality No. 445, Ally No. 46, Section House No. 44/3, Third floor, Office, Basrah Province, Iraq; Dubai, United Arab Emirates; Port Um Qasr, Iraq; Additional Sanctions Information—Subject to Secondary Sanctions; Business Registration Number 1037675 (Oman); alt. Business Registration Number 5670 (Iraq) [SDGT] (Linked To: AL HABSI, Mahmood Rashid Amur).

Designated pursuant to section 1(a)(iii)(A) of E.O. 13224, as amended, for being owned, controlled, or directed by, directly or indirectly, AL HABSI, Mahmood Rashid Amur.

2. NIMR INTERNATIONAL S.R.L., STR. Horea NR. 80-82A AP. 13, Cluj-Napoca 400001, Romania; Additional Sanctions Information—Subject to Secondary Sanctions; Business Registration Number J12/1651/2020 (Romania) [SDGT] (Linked To: AL HABSI, Mahmood Rashid Amur).

Designated pursuant to section 1(a)(iii)(A) of E.O. 13224, as amended, for being owned, controlled, or directed by, directly or indirectly, AL HABSI, Mahmood Rashid Amur.

3. BRAVERY MARITIME CORPORATION (a.k.a. BRAVERY MARITIME CORP), Dubai, United Arab Emirates; Liberia; Additional Sanctions Information—Subject to Secondary Sanctions; Registration Country Liberia; Identification Number IMO 6161246 (Liberia) [SDGT] (Linked To: AL HABSI, Mahmood Rashid Amur).

Designated pursuant to section 1(a)(iii)(A) of E.O. 13224, as amended, for being owned, controlled, or directed by, directly or indirectly, AL HABSI, Mahmood Rashid Amur.

4. ORBIT PETROCHEMICALS TRADING LLC (a.k.a. ORBIT PETROCHEMICALS; a.k.a. ORBIT PETROCHEMICALS LLC), P.O. Box 2800, Seeb, Muscat, Oman; Additional Sanctions Information—Subject to Secondary Sanctions; Business Registration Number 1089008 (Oman) [SDGT] (Linked To: NIMR INTERNATIONAL L.L.C.).

Designated pursuant to section 1(a)(iii)(A) of E.O. 13224, as amended, for being owned, controlled, or directed by, directly or indirectly, NIMR INTERNATIONAL L.L.C.

On August 13, 2021, OFAC also identified the following vessel as property in which a blocked person has an interest under the relevant sanctions authority listed below:

Vessel

1. OMAN PRIDE Crude Oil Tanker Liberia flag; Additional Sanctions Information—Subject to Secondary Sanctions; Vessel Registration Identification IMO 9153525 (vessel) [SDGT] (Linked To: BRAVERY MARITIME CORPORATION).

Identified pursuant to E.O. 13224, as amended, as property in which BRAVERY MARITIME CORPORATION has an interest.

Dated: August 13, 2021.
Bradley T. Smith,
Acting Director, Office of Foreign Assets Control, U.S. Department of the Treasury.

[FR Doc. 2021-17716 Filed 8-17-21; 8:45 am]

BILLING CODE 4810-AL-P